ENVIRONMENTAL PROTECTION AGENCY

40 CFR Part 52

[EPA-R01-OAR-2008-0446; A-1-FRL-9901-93-Region 1]

Approval and Promulgation of Air Quality Implementation Plans; Massachusetts; Regulations Limiting Emissions of Volatile Organic Compounds and Nitrogen Oxides

AGENCY: Environmental Protection Agency (EPA).

ACTION: Final rule.

SUMMARY: The Environmental Protection Agency (EPA) is approving State Implementation Plan (SIP) revisions submitted by the Commonwealth of Massachusetts. These revisions consist of updates and amendments to existing air pollution control requirements for stationary sources of volatile organic compounds (VOCs) and nitrogen oxides (NOX). This action is being taken in accordance with the Clean Air Act.

DATES: This rule is effective on June 30, 2014.

ADDRESSES: EPA has established a docket for this action under Docket Identification No. EPA-R01-OAR-2008-0446. All documents in the docket are listed on the www.regulations.gov Web site. Although listed in the index, some information may not be publicly available, i.e., CBI or other information whose disclosure is restricted by statute. Certain other material, such as copyrighted material, is not placed on the Internet and will be publicly available only in hard copy form. Publicly available docket materials are available either electronically through www.regulations.gov or in hard copy at the Office of Ecosystem Protection, U.S. Environmental Protection Agency, EPA New England Regional Office, Office of Ecosystem Protection, Air Quality Planning Unit, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays. Copies of the documents relevant to this action are also available for public inspection during normal business hours, by appointment at the Division of Air Quality Control, Department of Environmental Protection, One Winter Street, 8th Floor, Boston, MA 02108.

FOR FURTHER INFORMATION CONTACT: Bob McConnell, Air Quality Planning Unit, U.S. Environmental Protection Agency, EPA New England Regional Office, 5 Post Office Square, Suite 100 (mail code: OEP05-2), Boston, MA 02109-3912, telephone number (617) 918-1046, fax number (617) 918-0046, email mcconnell.robert@epa.gov.

SUPPLEMENTARY INFORMATION: Throughout this document whenever “we,” “us,” or “our” is used, we mean EPA. Additionally, the phrase “the Commonwealth” refers to the Commonwealth (or state) of Massachusetts. Organization of this document. The following outline is provided to aid in locating information in this preamble.

I. Background and Purpose

II. Response to Comments

III. Final Action

IV. Statutory and Executive Order Reviews

I. Background and Purpose

On August 1, 2013 (78 FR 46552), EPA published a Notice of Proposed Rulemaking (NPR) proposing to approve updates and amendments to existing air pollution control requirements for stationary sources of volatile organic compounds (VOCs) and nitrogen oxides (NOX) contained in the Massachusetts State Implementation Plan (SIP). The proposed revisions were submitted by the Massachusetts Department of Environmental Protection to EPA on July 11, 2001, and September 14, 2006. The July 11, 2001 submittal was supplemented with two additional submittals, one on August 9, 2001, and a second on January 18, 2002 (collectively referred to herein as the July 11, 2001 submittal).

The July 11, 2001 submittal includes revisions to Title 310 of the Code of Massachusetts Regulations (CMR), section 7.19, Reasonably Available Control Technology (RACT) for Sources of Nitrogen Oxides (NOX). The September 14, 2006 submittal includes revisions to 310 CMR 7.00, Definitions; 7.05, Fuels All Districts; 7.18, Volatile and Halogenated Organic Compounds; 7.19, RACT for Sources of NOX; and 7.24, Organic Material Storage and Distribution.

In addition, we note that our August 1, 2013 NPR indicated we intended to take action on 310 CMR 7.18(8), Solvent Metal Degreasing, as submitted on September 14, 2006. However, in light of a June 1, 2010 submittal by Massachusetts to EPA of an updated version of 310 CMR 7.18(8), Massachusetts withdrew its SIP revision request relating to the September 14, 2006 version of section 7.18(8) by letter dated January 18, 2013. Furthermore, we approved the updated version of section 7.18(8) that Massachusetts submitted on June 1, 2010 within a final rule published in the Federal Register on September 9, 2013. See 78 FR 54960.

Our August 1, 2013 proposal indicated that the Commonwealth's SIP revision request included a request that the definitions of 81 different terms be approved into the SIP. By letter dated August 8, 2013, Massachusetts informed EPA that nine of the 81 definitions had been unintentionally included in the SIP revision request. Therefore, by the August 8, 2013 letter, Massachusetts withdrew its request that those nine definitions be approved into the SIP. The nine terms are as follows: “Alter or alteration,” “Alternative fuel,” “Alternative fuel vehicle,” “Asbestos,” “Asbestos-containing material,” “Construct or construction,” “Cooling tower,” “Friable asbestos containing material,” and “Non-road vehicle.” Our final rule, therefore, will not incorporate these terms into the Massachusetts SIP. The other specific SIP revisions that were included in Massachusetts' submittals are explained in the NPR and are detailed in the description of amendments made to 40 CFR Part 52 described at the end of this final rule.

II. Response to Comments

We received one comment letter on our proposal. The comments were submitted by Robert Ukeiley on behalf of the Sierra Club, by letter dated September 3, 2013. A summary of Sierra Club's comments and our response to each is provided below.

Comment 1: Sierra Club notes that our proposed action was overdue, given that Massachusetts' submittals to EPA occurred as far back as 2001. Sierra Club also commented that our delay should not be used as justification for approving emission limits that are no longer protective of public health. Additionally, Sierra Club commented that there was very little analysis provided by EPA in the NPR as to why EPA was proposing approval of Massachusetts' submittals.

Response 1: We acknowledge that our action on these updates to regulations previously approved into the Commonwealth's SIP was delayed. However, we note that, with the exception of the updates we are taking final action on today, the majority of the provisions of the regulations in question (including the pollutant emissions rate limits contained within those regulations) have been part of the Massachusetts SIP for many years, with most being approved in the 1990's. Our action today involves incorporating into the Massachusetts SIP minor amendments to previously approved NOX and VOC control requirements. Our original approval documents associated with these previously approved regulations contained a thorough analysis justifying our action for them. Consequently, we did not repeat our analysis in the NPR of the already-approved portions of the regulations in question. Rather, we provided in the NPR a brief summary of the changes being made commensurate with the nature of those relatively minor changes to the SIP as requested by Massachusetts. Our rationale for our previous approvals of the more substantive provisions of the Massachusetts SIP's NOX and VOC requirements can be found in the individual rulemaking actions for them, which are chronicled within 40 CFR 52.1167.

In addition, Massachusetts' NOX and VOC regulations were recently certified by Massachusetts, and approved by EPA, as representing RACT for the 1997 ozone standard. See final approval at 78 FR 54960 (September 9, 2013) and the analysis included in our proposed approval at 78 FR 10583 (February 14, 2013). EPA did not receive any comments on the analysis presented in the proposed approval.

Sierra Club's comments on our proposed action primarily concerned Massachusetts' NOX RACT regulation, 310 CMR 7.19. Table 1 below provides a summary of the specific provisions of Massachusetts' NOX RACT regulation that were included in the July 11, 2001 and September 14, 2006 SIP submittals and which we are taking action on today. Additionally, our response below to Sierra Club's second comment addresses Sierra Club's assertion that EPA should disapprove 310 CMR 7.19(1)(c)(9) because it allows sources to comply with outdated emissions limits.

¹ “AP-42, Compilation of Air Pollutant Emission Factors, Volume I: Stationary Point and Area Sources, Section 1.4 (EPA, January 1995).

Table 1—Changes to 310 CMR 7.19, NOX RACT
Citation within 310 CMR 7.19: | Description of change
7.19(4)(b)(3)(d) | Existing cross reference to 310 CMR 7.02(2) updated to reference 7.02(1), which contains the authority for Massachusetts to issue approvals establishing emission limits and/or restrictions.
7.19(4)(c)(2) | Added the phrase “or NOX ERCs” to this provision to clarify that the use of NOX emission reduction credits (ERCs) is an option for sources seeking to comply via the alternative NOX RACT provision of 7.19(4)(c). The use of NOX ERCs as one alternative compliance option had already been approved into the SIP at 7.19(2)(g). See 61 FR 41338 (August 8, 1996).
7.19(4)(c)(f) and 7.19(5)(d) | The following sentence was added to both sections: “Notwithstanding this CO emission standard, the Department may approve a higher CO emission standard for a medium-size boiler as part of the emission control plan if the facility demonstrates that combustion conditions will not significantly deteriorate with the higher CO emission standard.” Explanation: Measurement of CO (carbon monoxide) is often used to monitor combustion efficiency, as higher CO levels can indicate a degradation of performance. Both 7.19(4)(c)(f) and 7.19(5)(d) contain CO exhaust concentration limits of 200 parts per million. In certain circumstances, adding NOX air pollution control equipment can lead to an increase in CO emissions.¹ Given that Massachusetts has no CO nonattainment areas, allowing the state the discretion to exceed the CO limit is acceptable in instances where a source demonstrates that it is necessary to properly control NOX.
7.19(13)(a)(6) | Existing incorrect cross reference to stack testing provisions is corrected from 310 CMR 7.19(13)(d) to properly reference 310 CMR 7.19(13)(c).
7.19(13)(c)(1) | Removed the word “written” from before the phrase “Department approval,” allowing the state to authorize pretest stack testing protocols without needing to do so in writing. Pursuant to 7.19(13)(c)(6), the Department must still approve, in writing, emission test reports.
Numerous locations | Throughout 7.19, the word “million” is replaced with numeric 1,000,000.

Comment 2: Sierra Club comments that EPA should disapprove the provision codified at 310 CMR 7.19(1)(c)(9), which provides for an exemption from the NOX RACT requirements of section 7.19 for stationary sources that obtain a plan approval (or permit) that imposes a requirement to meet a level of control constituting best available control technology (BACT) or lowest achievable emission rate (LAER). Sierra Club contends that because reasonably available control technology (RACT) advances over time as technology advances, the provision in question denies the public the benefit of such advances in technology by allowing sources to rely on outdated control technology, e.g., by allowing sources to rely on technology that may have constituted LAER or BACT decades ago and is not as stringent as NOX RACT today.

Sierra Club also commented that EPA must disapprove the provisions codified at section 310 CMR 7.19(2)(b)14 and 7.19(2)(g) pertaining to the use of emission reduction credits and interstate emission trading programs to meet RACT requirements. Sierra Club asserts that RACT is a source specific emission limit and therefore cannot be met by buying emission reduction credits from another facility. Sierra Club further asserts that “EPA's attempt to allow interstate trading programs to qualify as RACT has been rejected by the DC Circuit.”

Response 2: EPA disagrees with Sierra Club's interpretation of 310 CMR 7.19(1)(c)(9). Sierra Club asserts that this requirement, “appears to exempt pollution emission sources from RACT if they obtained a plan approval that includes BACT and LAER which was as stringent as RACT at the time BACT or LAER was approved.” The provision in question does not, as Sierra Club's comment suggests, relieve a source from meeting an emission rate that is equivalent to RACT, and, in fact, provides that a source must meet an emission rate at least as stringent as RACT pursuant to the source's obligation to meet BACT or LAER emissions rates under a plan approval (or permit) issued by the Commonwealth. The provision only provides that the source would not be subject to the specific detailed requirements of 310 CMR 7.19, and does so because a qualifying source would necessarily be subject to a requirement to meet an emission rate that is at least as stringent. That is accomplished by the language of 7.19(1)(c)(9) requiring that the BACT or LAER emission rate in the relevant plan approval “be no less stringent than RACT.” When implementing this provision, Massachusetts must first determine what its NOX RACT regulation requires of the source being evaluated, and then confirm that the BACT or LAER requirement contained in the source's plan approval (or permit) is “no less stringent than RACT.” In practice, sources to which this provision would apply are typically subject to more stringent (as opposed to equivalent) emissions rates pursuant to a BACT or LAER requirement; both BACT and LAER require, in almost all cases, a more stringent (as opposed to equivalent) level of emissions control than RACT. With respect to BACT, this fact is noted within EPA's May 18, 2006 guidance memorandum from William T. Harnett to EPA's Regional Air Division Directors, entitled “RACT Qs and As—Reasonably Available Control Technology (RACT): Questions and Answers,” which contains the following:

BACT requires that new or modified sources adopt the best available controls and, as such, the analysis is a “top-down” analysis that first looks at the most stringent level of control available for a source. Industries applying for a construction permit list in their application what are the currently most stringent levels of control. The State verifies this by checking the application against other data sources including EPA's RACT/BACT Clearinghouse. RACT requires that sources adopt controls that are reasonably available and thus they may not be the most stringent controls that have been adopted for other similar sources.”

Similarly, 40 CFR 51.165(a)(1)(xiii) provides that a LAER level of control also inherently is more stringent than RACT.

Additionally, EPA's implementation rule for the 1997 8-hour ozone standard (70 FR 71653, November 29, 2005) notes that states may use information from prior BACT or LAER analyses for purposes of showing that a source is meeting RACT requirements.

With respect to Sierra Club's assertion that the provision in question would allow a source to meet a level of control that is outdated, potentially by decades, we do not believe that could happen for the following reason. The most current NOX RACT obligation that applies to Massachusetts under the Clean Air Act (CAA) relates to the 1997 ozone standard. EPA has approved the Commonwealth's NOX RACT certification for the 1997 ozone standard. See proposed rule at 78 FR 10583 (February 14, 2013) and final rule at 78 FR 54960 (September 9, 2013). This means that Massachusetts has demonstrated that its current NOX RACT regulations meet the CAA's requirements for implementation of NOX RACT under the 1997 ozone standard. The certification approved by EPA required Massachusetts to demonstrate that all sources subject to NOX RACT in Massachusetts are meeting NOX RACT under the 1997 ozone standard. EPA has not yet promulgated in final form its implementation rule for the 2008 ozone standard and states are not yet required to submit SIP amendments in relation to NOX RACT for the 2008 standard.

Furthermore, we note that EPA has previously approved provisions similar to Massachusetts 310 CMR 7.19(1)(c)(9) in other states' RACT regulations, e.g., Maine's VOC RACT regulations and Rhode Island's NOX RACT regulations.²

² See the Maine Department of Environmental Protection's Chapter 134 at section (1)(C)(2), and the Rhode Island Department of Environmental Management's Air Pollution Control Regulation Number 27, at section 27.4.5, approved by EPA on April 18, 2000 (65 FR 20749) and September 2, 1997 (62 FR 46202), respectively.

Finally, as noted above, Sierra Club comments that EPA must disapprove the provisions at 310 CMR 7.19(2)(b)(14) and 310 CMR 7.19(2)(g), which address emission reduction credits and interstate trading of emissions credits to comply with NOX RACT. These provisions are not at issue in this action. EPA approved both 310 CMR 7.19(2)(b)(14) and 310 CMR 7.19(2)(g) into the Massachusetts SIP in 1999 and 1996, respectively. See 64 FR 48095 (September 2, 1999) and 61 FR 41335 (August 8, 1996). EPA's August 1, 2013 NPR did not propose to take any further action on these two provisions, nor is EPA taking action on these provisions through its action today. Consequently, Sierra Club's comment is not germane to this action and no further response is necessary.³

³ Sierra Club's comment included the statement “EPA's attempt to allow interstate trading programs to qualify as RACT has been rejected by the D.C. Circuit.” The comment does not cite a D.C. Circuit opinion that would support Sierra Club's broad assertion.

Comment 3: Sierra Club commented extensively on 310 CMR 7.19(4), NOX RACT for large boilers. Sierra Club's comments include an extensive review of the permitted emission limits for a number of coal fired power plants in Massachusetts. Sierra Club contends that EPA must disapprove the NOX RACT emission limits at 310 CMR 7.19(4) for a number of reasons, including: (1) The Commonwealth's failure to provide an explanation or basis for how these emission limits were developed; (2) because the emissions limits are significantly too high and thus not effective at moving Massachusetts towards attainment of the ozone NAAQS; (3) the Commonwealth did not consider using selective catalytic reduction as a control technology; (4) the units of measure and averaging times associated with the NOX RACT limits are flawed; and (5) the Commonwealth did not consider the use of cleaner burning fuels.

Response 3: The final action we are taking today, which was also described in our notice of proposed rulemaking (78 FR 46552; August 1, 2013), involves revisions to a limited portion of the Massachusetts SIP, and consists of: (1) Various relatively minor amendments to regulations that EPA had already approved into the Massachusetts SIP in the past; and (2) the addition of certain definitions that help clarify the meaning of terms used in previously approved Massachusetts SIP provisions. None of the changes for which EPA proposed to take action, and on which EPA is taking final action today, includes the NOX RACT provisions for large boilers that Sierra Club objects to in its third comment. The NOX RACT requirements referenced by Sierra Club had earlier been approved by EPA into the Massachusetts SIP, 64 FR 48095 (September 2, 1999), and they were more recently certified by Massachusetts, and approved by EPA, as representing NOX RACT for the 1997 ozone standard. 78 FR 54960 (September 9, 2013). The proposed rule approving Massachusetts' NOX RACT certification contains the relevant analysis. 78 FR 10583 (February 14, 2013).

Comment 4: Sierra Club commented on two of the definitions that Massachusetts seeks to incorporate into its SIP. Specifically, Sierra Club commented that the definition for “federally enforceable” should include “enforceable by the Administrator and any person, as person is defined under the Clean Air Act.” Additionally, Sierra Club commented that the definition of “federal potential to emit” should include “actual emissions or maximum capacity to emit.”

Response 4: The definitions for “federal potential to emit” and “federally enforceable” that Massachusetts has adopted and submitted to EPA for approval into the Commonwealth's SIP are consistent with EPA's definitions for these terms found at 40 CFR 51.166(b)(4) and (17), respectively. We therefore intend to approve these two definitions into the Massachusetts SIP.

With regard to the Massachusetts definition of “federal potential to emit,” we note that the definition we are approving already contains the words “means the maximum capacity of a stationary source to emit.” If Sierra Club's comment is intended to suggest that EPA require Massachusetts to add the words “actual emissions,” EPA responds as follows. First, the federal definition of that term does not include the words “actual emissions.” Second, a stationary source's “maximum capacity” to emit would, by definition, always be equal to or greater than its “actual emissions.” So, adding the words “actual emissions” as requested by Sierra Club would not add anything substantive to that definition.

With regard to the definition of “federally enforceable,” EPA notes that Massachusetts' definition of the term already contains the term “Administrator.” However, EPA's definition of “federally enforceable” does not contain the words “and any person, as person is defined under the Clean Air Act.” The definition in question on its face relates to those provisions of regulations, permits, etc. that are “federally” enforceable. As such, a reference to the EPA Administrator's authority to enforce is appropriate. Further, the absence in the definition of the words “and any person, as person is defined under the Clean Air Act” has no adverse effect upon any person's right, pursuant to the CAA itself, to bring actions to enforce any provisions of regulations, permits, etc.

Comment 5: The Sierra Club notes that Massachusetts withdrew a number of items contained within its July 11, 2001 and September 14, 2006 submittals by letter dated January 18, 2013, and commented that EPA must clarify whether it is acting on the more current provisions noted within the withdrawal letter.

Response 5: By this final rule we are approving the portions of Massachusetts' July 11, 2001 and September 14, 2006 submittals that were not withdrawn through the Commonwealth's January 18, 2013 correspondence to EPA. As to NOX RACT, specifically, the provisions of 310 CMR 7.19 we are taking action on today are set forth clearly in Table I above. In addition, the information included within the docket for our proposed action contains detailed information regarding the specific provisions that Massachusetts withdrew pursuant to the January 18, 2013 letter. As to the July 11, 2001 and September 14, 2006 submittals, EPA is not approving by today's action anything other than the provisions contained in those two submittals and which were not withdrawn by Massachusetts' January 18, 2013 letter. As noted in our notice of proposed rulemaking, our action includes certain additions and clarifications to sections of the Massachusetts SIP that had been previously approved into the Commonwealth's SIP.

III. Final Action

EPA is taking final action to approve SIP revisions submitted by the Commonwealth of Massachusetts, which included revisions to the following sections of 310 CMR: 7.00, Definitions; 7.05, Fuels All Districts; 7.18, Volatile and Halogenated Organic Compounds; 7.19, RACT for Sources of Oxides of Nitrogen (NOX); and 7.24, Organic Material Storage and Distribution.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 28, 2014. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Nitrogen dioxide, Ozone, Reporting and recordkeeping requirements, Volatile organic compounds.

Dated: September 26, 2013.
H. Curtis Spalding,
Regional Administrator, EPA New England.

Editorial Note: This document was received for publication by the Office of Federal Register on May 15, 2014.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart W—Massachusetts

2. Section 52.1120 is amended by adding paragraph (c)(141) to read as follows:

§ 52.1120 Identification of plan.

* * * * *

(c) * * *

(141) Revisions to the State Implementation Plan submitted to EPA by the Massachusetts Department of Environmental Protection.

(i) Incorporation by reference.

(A) Massachusetts Regulation 310 CMR 7.00, “Statutory Authority; Legend; Preamble; Definitions,” effective on August 3, 2001, the definition for compliance certification.

(B) Massachusetts Regulation 310 CMR 7.00, “Statutory Authority; Legend; Preamble; Definitions,” effective on September 23, 2005, the definitions for adhesion promoter, Administrator, anti-glare safety coating, aqueous cleaner, automotive refinishing facility, bakery, capture efficiency, CEMS, CFR, combined cycle combustion turbine, dry bottom, duct burner, elastomeric coating, emergency or standby engine, emission statement, energy input capacity, EPA, existing facility, face firing, facility, federally enforceable, federal potential to emit or federal potential emissions, ferrous cupola foundry, four-stage coating system, fuel cell, fugitive emissions, glass, glass melting furnace, halogenated organic compound, hardener, hazardous air pollutant (HAP), heat release rate, impact-resistant coating, lean burn engine, lowest achievable emission rate (LAER), malfunction, maximum achievable control technology, maximum design capacity, mobile equipment, MW, natural draft opening, nonattainment area, nonattainment review, non-criteria pollutant, potential emissions or potential to emit, pretreatment wash primer, primer sealer, primer surfacer, reducer, simple cycle combustion turbine, single-stage topcoat, soap, specialty coating, stationary combustion turbine, stationary reciprocating internal combustion engine, stencil coating, stoker, surface preparation product, tangential firing, three-stage coating system, touch-up coating, two-stage topcoat, underbody coating, uniform finish blender.

(C) Massachusetts Regulation 310 CMR 7.00, “Statutory Authority; Legend; Preamble; Definitions,” effective on June 2, 2006, the definitions for water hold-out coating, weld-through primer, VOC composite partial pressure.

(D) Massachusetts Regulation 310 CMR 7.05, “U Fuels All Districts,” paragraph (2), “U Use of Residual Fuel Oil or Hazardous Waste Fuel,” effective on September 23, 2005.

(E) Massachusetts Regulation 310 CMR 7.18, “U Volatile and Halogenated Organic Compounds,” effective on September 23, 2005, paragraph (1), “U Applicability and Handling Requirements,” subparagraphs (a) and (c) through (f); paragraph (2), “U Compliance with Emission Limitations” (as corrected in Massachusetts Register 1037, October 21, 2005); paragraph (3), U Metal Furniture Coating, subparagraph (a); paragraph (4), U Metal Can Surface Coating, subparagraph (a); paragraph (11), “U Surface Coating of Miscellaneous Metal Parts and Products,” subparagraphs (a) through (d)(4.); paragraph (19), “Synthetic Organic Chemical Manufacture,” subparagraphs (h) and (i); paragraph (20), “Emission Control Plans for Implementation of Reasonably Available Control Technology;” paragraph (21), “Surface Coating of Plastic Parts,” subparagraphs (a) through (d) and (f) through (i); paragraph (22), “Leather Surface Coating,” subparagraphs (a) through (c); paragraph (23), “Wood Products Surface Coating,” subparagraphs (b) through (i); paragraph (24), “Flat Wood Paneling Surface Coating,” subparagraphs (a) through (c) and subparagraphs (h) and (i); paragraph (25), “Offset Lithographic Printing,” subparagraphs (a) through (c); paragraph (26), “Textile Finishing,” subparagraphs (c) through (i); paragraph (27), “Coating Mixing Tanks;” paragraph (28), “Automotive Refinishing,” and paragraph (29), “Bakeries,” subparagraph (c) 2.

(F) Massachusetts Regulation 310 CMR 7.19, “U Reasonably Available Control Technology (RACT) for Sources of Oxides of Nitrogen (NOX),” effective on August 3, 2001; paragraph (1), “Applicability,” subparagraph (c) 9. (as corrected in Massachusetts Register 938, January 4, 2002); paragraph (4), “Large Boilers,” subparagraphs (b)3.d. (as corrected in Massachusetts Register 938, January 4, 2002), (c) 2., and (f); paragraph (5), “Medium-size Boilers,” subparagraph (d).

(G) Massachusetts Regulation 310 CMR 7.19, “U Reasonably Available Control Technology (RACT) for Sources of Oxides of Nitrogen (NOX),” paragraph (13), “Testing, Monitoring, Recordkeeping, and Reporting Requirements,” subparagraphs (a), “Applicability,” and (c), “Stack Testing”, effective September 23, 2005.

(H) Massachusetts Regulation 310 CMR 7.24, “U Organic Material Storage and Distribution,” subparagraph (1), “Organic Material Storage Tanks,” effective September 23, 2005.

(I) Massachusetts Regulation 310 CMR 7.24, “U Organic Material Storage and Distribution,” subparagraph (4), “Motor Vehicle Fuel Tank Trucks,” effective June 2, 2006.

3. In § 52.1167, Table 52.1167 is amended by:

a. Adding 3 new entries to existing state citations for 310 CMR 7.00 in order of “Date submitted by state”.

b. Adding a new entry for 310 CMR 7.05(2) in alphanumeric order.

c. Adding a new entry for 310 CMR 7.18(1)(a), (c)-(f) in alphanumeric order.

d. Adding a new entry to the existing state citations for 310 CMR 7.18(2) in order of “Date submitted by state”.

e. Adding new entries for 310 CMR 7.18(3)(a), 7.18(4)(a), 7.18(11)(a)-(d)4., and 7.18(19)(h), (i) in alphanumeric order.

f. Adding a new entry to the existing state citations for 310 CMR 7.18(20) in order of “Date submitted by state”.

g. Adding new entries for 310 CMR 7.18(21)(a) -(d), (f)-(i), 7.18(22)(a)-(c), 7.18(23)(b)-(i), 7.18(24)(a)-(c), (h), (i), 7.18(25)(a)-(c), and 7.18(26)(c)-(i) in alphanumeric order.

h. Adding new entries to the existing state citations for 310 CMR 7.18(27) and 7.18(28) in order of “Date submitted by state”.

i. Adding new entries for 310 CMR 7.18(29)(c)(2), 7.19(1)(c)(9), (4)(b)(3)d, (f), (5)d, 7.19(13)(a), (c), 7.24(1), and 7.24(4) in alphanumeric order.

The additions read as follows:

§ 52.1167 EPA-approved Massachusetts State regulations.

* * * * *

Table 52.1167—EPA-Approved Rules and Regulations
[See Notes at end of Table]
State citation | Title/subject | Date submitted by State | Date approved by EPA | Federal Register citation | 52.1120(c) | Comments/unapproved sections
* * * * * * *
310 CMR 7.00 | Definitions | 8/9/01 | 5/29/14 | [Insert Federal Register page number where the document begins] | 141 | Approved the definition for compliance certification.
310 CMR 7.00 | Definitions | 9/14/06 | 5/29/14 | [Insert Federal Register page number where the document begins] | 141 | Approving the following definitions, effective 9/23/05: adhesion promoter, Administrator, anti-glare safety coating, aqueous cleaner, automotive refinishing facility, bakery, capture efficiency, CEMS, CFR, combined cycle combustion turbine, dry bottom, duct burner, elastomeric coating, emergency or standby engine , emission statement, energy input capacity, EPA, existing facility, face firing, facility, federally enforceable, federal potential to emit or federal potential emissions, ferrous cupola foundry, four-stage coating system, fuel cell, fugitive emissions, glass, glass melting furnace, halogenated organic compound, hardener, hazardous air pollutant (HAP), heat release rate, impact resistant coating, lean burn engine, lowest achievable emission rate (LAER), malfunction, maximum achievable control technology, maximum design capacity, mobile equipment, MW, natural draft opening, nonattainment area, nonattainment review, non-criteria pollutant, potential emissions or potential to emit, pretreatment wash primer, primer sealer, primer surfacer, reducer, simple cycle combustion turbine, single-stage topcoat, soap, specialty coating, stationary combustion turbine, stationary reciprocating internal combustion engine, stencil coating, stoker, surface preparation product, tangential firing, three-stage coating system, touch-up coating, two-stage topcoat, underbody coating, uniform finish blender.
310 CMR 7.00 | Definitions | 9/14/06 | 5/29/14 | [Insert Federal Register page number where the document begins] | 141 | Approving the following amended or added definitions, effective 6/2/06: water hold-out coating, weld-through primer, VOC composite partial pressure.
* * * * * * *
310 CMR 7.05(2) | U Fuels All Districts; U Use of Residual Fuel Oil or Hazardous Waste Fuel | 9/14/06 | 5/29/14 | [Insert Federal Register page number where the document begins] | 141 | Removed landfill gas from requirements of section.
* * * * * * *
310 CMR 7.18(1)(a), (c)-(f). | U Applicability and Handling Requirements | 9/14/06 | 5/29/14 | [Insert Federal Register page number where the document begins] | 141 | Added requirements for proper storage of volatile organic compounds.
* * * * * * *
310 CMR 7.18(2) | U Compliance with Emission Limitations | 9/14/06 | 5/29/14 | [Insert Federal Register page number where the document begins] | 141 | Addition of daily weighted averaging provision.
* * * * * * *
310 CMR 7.18(3)(a) | U Metal Furniture Coating | 9/14/06 | 5/29/14 | [Insert Federal Register page number where the document begins] | 141 | Minor wording change.
* * * * * * *
310 CMR 7.18(4)(a) | U Metal Can Surface Coating | 9/14/06 | 5/29/14 | [Insert Federal Register page number where the document begins] | 141 | Minor wording change.
* * * * * * *
310 CMR 7.18(11)(a)-(d)4. | U Surface Coating of Miscellaneous Metal Parts and Products | 9/14/06 | 5/29/14 | [Insert Federal Register page number where the document begins] | 141 | Wording revision to clarify exemption requirements.
* * * * * * *
310 CMR 7.18(19)(h), (i) | Synthetic Organic Chemical Manufacture | 9/14/06 | 5/29/14 | [Insert Federal Register page number where the document begins] | 141 | Clarification of quarterly reporting submittal date.
* * * * * * *
310 CMR 7.18(20) | Emission Control Plans for Implementation Reasonably Available Control Technology | 9/14/06 | 5/29/14 | [Insert Federal Register page number where the document begins] | 141 | Clarification of exemption requirements, and inclusion of provision allowing for additional requirements such as stack testing or emissions monitoring.
* * * * * * *
310 CMR 7.18(21)(a)-(d), (f)-(i) | Surface Coating of Plastic Parts | 9/14/06 | 5/29/14 | [Insert Federal Register page number where the document begins] | 141 | Added language strengthening compliance obligations.
* * * * * * *
310 CMR 7.18(22)(a)-(c) | Leather Surface Coating | 9/14/06 | 5/29/14 | [Insert Federal Register page number where the document begins] | 141 | Added language strengthening compliance obligations.
* * * * * * *
310 CMR 7.18(23)(b)-(i) | Wood Products Surface Coating | 9/14/06 | 5/29/14 | [Insert Federal Register page number where the document begins] | 141 | Added language strengthening compliance obligations.
* * * * * * *
310 CMR 7.18(24)(a)-(c), (h), (i) | Flat Wood Paneling Surface Coating | 9/14/06 | 5/29/14 | [Insert Federal Register page number where the document begins] | 141 | Added language strengthening compliance obligations.
* * * * * * *
310 CMR 7.18(25)(a)-(c) | Offset Lithographic Printing | 9/14/06 | 5/29/14 | [Insert Federal Register page number where the document begins] | 141 | Added language strengthening compliance obligations.
* * * * * * *
310 CMR 7.18(26)(c)-(i) | Textile Finishing | 9/14/06 | 5/29/14 | [Insert Federal Register page number where the document begins] | 141 | Added language strengthening compliance obligations.
310 CMR 7.18(27) | Coating Mixing Tanks | 9/14/06 | 5/29/14 | [Insert Federal Register page number where the document begins] | 141 | Minor wording changes to improve clarity of regulation.
* * * * * * *
310 CMR 7.18(28) | Automotive Refinishing | 9/14/06 | 5/29/14 | [Insert Federal Register page number where the document begins] | 141 | New emission limits, labeling, recordkeeping requirements, and exemptions added.
* * * * * * *
310 CMR 7.18(29)(c)(2) | Bakeries | 9/14/06 | 5/29/14 | [Insert Federal Register page number where the document begins] | 141 | Updated cross reference.
* * * * * * *
310 CMR 7.19(1)(c)(9), (4)(b)(3)d, (f), (5)d | NOX RACT | 8/9/01; 1/18/02 | 5/29/14 | [Insert Federal Register page number where the document begins] | 141 | Updates to sections pertaining to applicability, large boilers, and medium size boilers.
* * * * * * *
310 CMR 7.19(13)(a), (c) | NOX RACT | 9/14/06 | 5/29/14 | [Insert Federal Register page number where the document begins] | 141 | Updates to applicability and stack testing requirements.
* * * * * * *
310 CMR 7.24(1) | U Organic Material Storage and Distribution | 9/14/06 | 5/29/14 | [Insert Federal Register page number where the document begins] | 141 | Updates to requirements for organic material storage tanks, effective 9/23/05.
* * * * * * *
310 CMR 7.24(4) | U Organic Material Storage and Distribution | 9/14/06 | 5/29/14 | [Insert Federal Register page number where the document begins] | 141 | Updates to requirements for motor vehicle fuel tank trucks, effective 6/2/06.
* * * * * * *
Notes:
¹ This table lists regulations adopted as of 1972. It does not depict regulatory requirements which may have been part of the Federal SIP before this date.
² The regulations are effective statewide unless otherwise stated in comments or title section.

[FR Doc. 2014-11687 Filed 5-28-14; 8:45 am]

BILLING CODE 6560-50-P